DEPARTMENT OF HOMELAND SECURITY

Coast Guard

33 CFR Part 117

[CGD08-03-049]

RIN 1625-AA09

Drawbridge Operation Regulations; Belle River, Belle River, LA

AGENCY: Coast Guard, DHS.

ACTION: Notice of proposed rulemaking.

SUMMARY: The Coast Guard proposes to temporarily change the regulation governing the operation of the State Route 70 pontoon drawbridge across Belle River, mile 23.8, near Belle River, Louisiana. The temporary change would allow the bridge operations to be adjusted to facilitate the relocation of the tender's house. The duration of the temporary change will be for eight months from the effective date of the temporary rule.

DATES: Comments and related material must reach the Coast Guard on or before March 9, 2004.

ADDRESSES: You may mail comments and related material to Commander (obc), Eighth Coast Guard District, 501 Magazine Street, New Orleans, Louisiana 70130-3396. The Commander, Eighth Coast Guard District, Bridge Administration Branch maintains the public docket for this rulemaking. Comments and material received from the public, as well as documents indicated in this preamble as being available in the docket, will become part of this docket and will be available for inspection or copying at the Bridge Administration office between 7 a.m. and 3 p.m., Monday through Friday, except Federal holidays.

FOR FURTHER INFORMATION CONTACT: Mr. David Frank, Bridge Administration Branch, 504-589-2965.

SUPPLEMENTARY INFORMATION:

Request for Comments

We encourage you to participate in this rulemaking by submitting comments and related material. If you do so, please include your name and address, identify the docket number for this rulemaking [CGD08-03-049], indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed temporary rule in view of them.

Public Meeting

We do not now plan to hold a public meeting. You may submit a request for a meeting by writing to Commander, Eighth Coast Guard District, Bridge Administration Branch at the address under ADDRESSES explaining why one would be beneficial. If we determine that one would aid this rulemaking, we will hold one at a time and place announced by a later notice in the Federal Register.

Background and Purpose

The Louisiana Department of Transportation and Development (LDOTD) plans to replace the bridge tender's house of the State Route 70 pontoon drawbridge across Belle River (on the Gulf Intracoastal Waterway Morgan City to Port Allen Alternate Route (Landside Route)), mile 23.8, at Belle River, Louisiana. During construction of the bridge tender's house, vehicular traffic will be limited to one lane. Since the bridge tender's house will be removed and replaced, the tender will have no place to stay at night or during inclement weather. The proposed temporary rule allows for the continued operation of the bridge with minor changes to the operating schedule. Presently, 33 CFR 117.424 requires that the draw of the S70 bridge, mile 23.8 (Landside Route) near Belle River, must open on signal; except that, from 10 p.m. to 6 a.m., the draw must open on signal if at least four hours notice is given. During the advance notice period, the draw must open on less than four hours notice for an emergency and open on demand should a temporary surge in waterway traffic occur.

LDOTD indicates that approximately 60 vessels per month pass through the bridge site.

Discussion of Proposed Rule

This proposed temporary rule would allow the bridge to continue to operate normally from 8 a.m. to 5 p.m. Monday through Friday while opening on signal with four hours notice at all other times. The advance notice requirement would affect marine traffic for an additional two hours in the mornings and five hours in the evenings. Additionally, mariners would be required to give advance notification on weekends. This proposed change allows for the replacement of the bridge tender's house while not significantly inconveniencing the mariners transiting the waterway. An alternate route is available via the Morgan City to Port Allen Alternate Route. This proposed temporary rule would become effective 30 days after the temporary rule is published and would be in effect for 8 months.

Regulatory Evaluation

This proposed temporary rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security.

We expect the economic impact of this proposed temporary rule to be so minimal that a full Regulatory Evaluation under the regulatory policies and procedures of DHS is unnecessary.

Prior to proposing this temporary rule, the Coast Guard reviewed the project and determined that the additional advanced notification requirements during the repair work would have minimal impact on commercial vessel traffic. This proposed temporary rule allows vessels ample opportunity to transit this waterway during the normal workday and with notification at all other times. An alternate route is also available.

Small Entities

Under the Regulatory Flexibility Act (5 U.S.C. 601-612), we have considered whether this proposed temporary rule would have a significant economic impact on a substantial number of small entities. The term “small entities” comprises small businesses, not-for-profit organizations that are independently owned and operated and are not dominant in their fields, and governmental jurisdictions with populations of less than 50,000.

The Coast Guard certifies under 5 U.S.C. 605(b) that this proposed temporary rule would not have a significant economic impact on a substantial number of small entities. This proposed temporary rule would affect the following entities, some of which may be small entities: The owners or operators of vessels who need to transit through mile 23.8 on the Belle River (on the Gulf Intracoastal Waterway Morgan City to Port Allen Alternate Route (Landside Route)) from 5 p.m. to 8 a.m. nightly and all day on weekends. The impacts to small entities will not be significant because of the limited number of openings required by these vessels. Also the bridge may be opened during non-manned hours with prior notification.

If you think that your business, organization, or governmental jurisdiction qualifies as a small entity and that this temporary rule would have a significant economic impact on it, please submit a comment (see ADDRESSES) explaining why you think it qualifies and how and to what degree this temporary rule would economically affect it.

Assistance for Small Entities

Under section 213(a) of the Small Business Regulatory Enforcement Fairness Act of 1996 (Pub. L. 104-121), we want to assist small entities in understanding this proposed temporary rule so that they can better evaluate its effects on them and participate in the rulemaking. If the temporary rule would affect your small business, organization, or governmental jurisdiction and you have questions concerning its provisions or options for compliance, please contact the Eighth Coast Guard District Bridge Administration Branch at the address above.

Collection of Information

This proposed temporary rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed temporary rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed temporary rule will not result in such an expenditure, we do discuss the effects of this temporary rule elsewhere in this preamble.

Taking of Private Property

This proposed temporary rule would not affect a taking of private property or otherwise have taking implications under Executive Order 12630, Governmental Actions and Interference with Constitutionally Protected Property Rights.

Civil Justice Reform

This proposed temporary rule meets applicable standards in sections 3(a) and 3(b)(2) of Executive Order 12988, Civil Justice Reform, to minimize litigation, eliminate ambiguity, and reduce burden.

Protection of Children

We have analyzed this proposed temporary rule under Executive Order 13045, Protection of Children from Environmental Health Risks and Safety Risks. This temporary rule is not an economically significant rule and would not create an environmental risk to health or risk to safety that might disproportionately affect children.

Indian Tribal Governments

This proposed temporary rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed temporary rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have analyzed this proposed temporary rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this proposed temporary rule is categorically excluded, under figure 2-1, paragraph (32)(e), of the Instruction, from further environmental documentation. Paragraph (32)(e) excludes the promulgation of operating regulations or procedures for drawbridges from the environmental documentation requirements of NEPA. Since this temporary rule will alter the normal operating schedule of the drawbridge, it falls within this exclusion.

List of Subjects in 33 CFR Part 117

Bridges.

Regulations

For the reasons discussed in the preamble, the Coast Guard proposes to amend 33 CFR Part 117 as follows:

PART 117—DRAWBRIDGE OPERATION REGULATIONS

1. The authority citation for part 117 continues to read as follows:

Authority: 33 U.S.C. 499; Department of Homeland Security Delegation No. 0170.1; 33 CFR 1.05-1(g); section 117.255 also issued under the authority of Pub. L. 102-587, 106 Stat. 5039.

2. Section 117.424 is suspended and a new temporary § 117.T426 is added to read as follows:

§ 117.T426 Belle River.

The draw of S70 bridge, mile 23.8 (Landside Route) shall open on signal from 8 a.m. to 5 p.m., Monday through Friday. At all other times, the bridge will open on signal if at least four hours advance notice is given.

Dated: December 22, 2003.
R.F. Duncan,
Rear Admiral, U.S. Coast Guard, Commander, Eighth Coast Guard District.

[FR Doc. 04-386 Filed 1-8-04; 8:45 am]

BILLING CODE 4910-15-U